SMALL BUSINESS ADMINISTRATION

13 CFR Part 117

Nondiscrimination in Federally Assisted Programs or Activities of SBA—Effectuation of the Age Discrimination Act of 1975, as Amended

CFR Correction

In Title 13 of the Code of Federal Regulations, revised as of January 1, 2012, on page 215, in § 117.1, in the last sentence, after the word “programs”, add the phrase “or activities”.

[FR Doc. 2012-30797 Filed 12-19-12; 8:45 am]

BILLING CODE 1505-01-D